DEPARTMENT OF THE INTERIOR

Bureau of Land Management

[BLM_NV_FRN_MO4500170889]

Notice of Intent To Amend the Resource Management Plan for the Proposed GridLiance West Core Upgrades Transmission Line Project in Nye and Clark Counties, Nevada and Prepare an Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) Nevada State Office (NVSO) intends to prepare a resource management plan amendment (RMPA) with an associated environmental impact statement (EIS) for the GridLiance West Core Upgrades Transmission Line Project (Project). With this notice, the BLM is announcing the scoping period to solicit public comments and identify issues and providing the planning criteria for public review.

DATES: The BLM requests the public submit written comments concerning the scope of the analysis, potential alternatives, and identification of relevant information and studies by September 8, 2023. To afford the BLM the opportunity to consider issues raised by commenters in the Draft RMPA/EIS, please ensure your comments are received prior to the close of the 30-day scoping period or 15 days after the last public meeting, whichever is later. The BLM will conduct two public scoping meetings (virtually) which will be held August 29, 2023, and August 30, 2023, from 6 p.m. to 8 p.m. Pacific time. Additional information on the meetings, including how to register, can be found on the BLM National NEPA Register at: https://eplanning.blm.gov/eplanning-ui/project/2025248/510.

ADDRESSES: You may submit comments on issues and planning criteria related to the project by any of the following methods:

• Website: https://eplanning.blm.gov/eplanning-ui/project/2025248/510.

• Email: BLM_NV_SNDO_NEPA_Comments@blm.gov.

• Mail: BLM, Southern Nevada District Office, Attn: GridLiance West Core Upgrades Transmission Line Project, 4701 North Torrey Pines Drive, Las Vegas, NV 89130-2301.

Documents pertinent to this proposal may be examined online at https://eplanning.blm.gov/eplanning-ui/project/2025248/510 and at the Southern Nevada District Office.

FOR FURTHER INFORMATION CONTACT: Mary Ann Vinson, Realty Specialist, telephone 702-515-5059; address 4701 North Torrey Pines Drive, Las Vegas, NV 89130-2301; email mvinson@blm.gov. Contact Ms. Vinson to have your name added to our mailing list. Individuals in the United States who are deaf, deafblind, hard of hearing, or have a speech disability may dial 711 (TTY, TDD, or TeleBraille) to access telecommunications relay services for contacting Ms. Vinson. Individuals outside the United States should use the relay services offered within their country to make international calls to the point-of-contact in the United States.

SUPPLEMENTARY INFORMATION: This document provides notice that the BLM NVSO intends to prepare a potential resource management plan (RMP) amendment with an associated EIS for the Project, announces the beginning of the scoping process, and seeks public input on issues and planning criteria. The RMPA is being considered to allow the BLM to evaluate the right-of-way (ROW) grant application for the project, which would require amending the existing 1998 Las Vegas RMP for plan conformance and consistency purposes.

The planning area is located in Clark and Nye Counties, Nevada, and encompasses up to approximately 4,900 acres of public land.

The scope of this land use planning process does not include addressing the evaluation or designation of areas of critical environmental concern (ACECs) and the BLM is not considering ACEC nominations as part of this process.

Purpose and Need

The BLM's purpose and need for this federal action is to respond to FLPMA right-of-way applications submitted by GridLiance under Title V of FLPMA (43 U.S.C. 1761) to amend portions of their existing ROW grants to construct, operate, maintain, and decommission approximately 155 miles of transmission system upgrades across BLM-administered lands in Nye and Clark Counties, Nevada, in compliance with FLPMA, BLM right-of-way regulations (43 Code of Federal Regulations [CFR] 2800), the 2008 BLM NEPA Handbook, U.S. Department of the Interior NEPA regulations, and other applicable federal and state laws and policies. In accordance with FLPMA, public lands are to be managed for multiple uses that consider the long-term needs of future generations for renewable and non-renewable resources. The BLM is authorized to grant ROWs on public lands for systems of generation, transmission, and distribution of electrical energy (FLPMA section 501(a)(4)). Proposed amendments to the existing ROW grants may require plan amendments to the 1998 Las Vegas RMP, which the BLM will analyze in the EIS. The purpose and need for the plan amendment is to bring the project into compliance and consistency with the 1998 Las Vegas RMP as it pertains to elements of the project for which there is no other option to attain compliance.

Preliminary Alternatives

The Proposed Action is to amend portions of existing BLM ROW grants to construct, operate, maintain, and decommission approximately 155 miles of upgraded alternating current overhead transmission lines on BLM, Las Vegas Paiute Snow Mountain Reservation, Department of Defense, and State of Nevada-administered lands, as well as private lands in Clark and Nye Counties, Nevada. The project is an upgrade of an existing overhead transmission system that is currently comprised of a single-circuit 230-kilovolt (kV) transmission line system and seven substations. The proposed upgrade consists of four segments, with double-circuit 230-kV or double-circuit 500-kV options being considered for each segment, unless otherwise noted:

• Segment 1: Sloan Canyon Switchyard to Trout Canyon Switchyard. Includes upgrades and expansions at both switchyards; only the Trout Canyon Switchyard upgrades are located on BLM-administered lands. This segment would be upgraded to a double-circuit 500-kV transmission line, regardless of the voltage option chosen for the remainder of the system.

• Segment 2: Trout Canyon Switchyard to Pahrump Substation. Includes upgrades and expansions at the Gamebird Substation and at Pahrump Substation, both located on private lands.

• Segment 3: Pahrump Substation to Innovation Substation. Includes upgrades at Innovation Substation. The transmission line upgrades between the Pahrump Substation and the proposed Johnnie Corner Substation would be constructed at either double-circuit 230 kV or double-circuit 500 kV; however, the proposed substation at Johnnie Corner would not be constructed if the transmission line is constructed as double-circuit 230 kV. The portion from the proposed Johnnie Corner Substation to Innovation Substation would consist of a double-circuit 230-kV transmission line, regardless of the voltage option chosen for the remainder of the system.

• Segment 4: Innovation Substation to Northwest Substation. Includes upgrades at the Desert View Substation. This segment would be upgraded to a double-circuit 230-kV transmission line, regardless of the voltage option chosen for the remainder of the system.

The final voltage configuration of the transmission line requested by GridLiance would be determined based on ongoing studies being completed by the California Independent System Operator and would be finalized before the signing of the record of decision (ROD) for the proposed upgrades. GridLiance is currently advancing design efforts for both voltages of the transmission line in order to provide the necessary information for analysis of either option in the EIS. Double-circuit 500-kV components of the project would require a 275-foot-wide right-of-way, while the double-circuit 230-kV components of the project would require a 150-foot-wide right-of-way.

For the majority of Segments 1, 2, and 3, the upgraded transmission line would be constructed adjacent to the existing transmission line in a right-of-way that mostly does not overlap with the existing transmission line right-of-way. A notable exception is the portion of Segment 3 from Johnnie Corner Substation to Innovation Substation where the existing transmission line would be fully removed, and the new line would be constructed in a ROW that mostly would overlap with the existing transmission line ROW. Work in these segments would require upgrades to existing access roads and the development of new access roads to safely access the work areas. Access roads would be improved or constructed to contain a 16-foot-wide travel surface and appropriate ditches and berms. The total disturbance width of the access roads is anticipated to be up to 24 feet. In addition to access roads, the project would require temporary work areas, including laydown yards and pulling and tension sites, as described in the relevant Plans of Development submitted to the BLM by GridLiance. Structures would vary based on the voltage option selected as well as specific site characteristics and would be steel lattice or tubular steel structures between 120 and 200 feet tall.

For Segment 4, the upgraded transmission line would be constructed in an expanded ROW that wholly overlaps with the existing transmission line ROW. Upgrades in this section would be limited to adding a second circuit to the existing tubular steel transmission line poles and reconductoring the existing circuit, both of which would require laydown yards and pulling and tensioning sites. Individual poles that do not meet the structural requirements of the upgraded conductors would need to be replaced.

The project would also involve the decommissioning of the existing single-circuit 230-kV transmission line from the Sloan Canyon Switchyard to the Innovation Substation. In Segments 1, 2, and the portion of Segment 3 from the proposed Johnnie Corner Substation to the Innovation Substation, the existing transmission line would be removed, and any disturbances associated with the line (including roads to tower locations not required for access to the upgraded transmission line) would be reclaimed. For the portion of Segment 3 from approximately the Pahrump Substation to the proposed Johnnie Corner Substation, the existing transmission line is strung on poles shared with an existing 138-kV transmission line owned and operated by Valley Electric Association. In this area, the GridLiance 230-kV transmission conductor would be removed, but the poles and existing Valley Electric Association transmission line would remain. No decommissioning of the existing line in Segment 4 would be required.

The Proposed Action also includes amending the 1998 Las Vegas RMP (updated 2019). One potential amendment would be to adjust the Visual Resource Management (VRM) class associated with portions of the project. The project area includes VRM Classes II, III, and IV within the proposed right-of-way. In some instances, design and mitigation may be insufficient to make the project consistent with VRM classes and may require an RMPA to change the class.

There is one preliminary action alternative being considered involving a modification of Segment 2. This alternative route follows the designated utility corridor approximately 0.5 mile further north before turning west to approach the Pahrump Substation. The total length difference between this alternative and the proposed route is negligible. This alternative route is intended to utilize more of the designated utility corridor and would result in fewer angle structures. The EIS will fully disclose all impacts of this alternative and any other alternatives developed through the EIS process.

A No-Action Alternative is also being considered. Under this alternative the BLM would not issue right-of-way grant amendments for the project and the project would not be constructed. Existing land uses in the project area would continue. Additionally, the BLM would not undertake an RMP amendment.

The BLM welcomes written comments on all preliminary alternatives as well as suggestions for additional alternatives.

Planning Criteria

The planning criteria guide the planning effort and lay the groundwork for effects analysis by identifying the preliminary issues and their analytical frameworks. Preliminary issues for the planning area have been identified by BLM personnel and from early engagement conducted for this planning effort with Federal, State, and local agencies, Tribes, and stakeholders. The BLM has identified 16 preliminary issues for this planning effort's analysis. The planning criteria are available for public review and comment at the ePlanning website (see ADDRESSES).

Summary of Expected Impacts

The project is anticipated to cause direct and indirect impacts during construction, operations and maintenance, and decommissioning. During construction (including decommissioning of the redundant existing transmission line) impacts would occur from land disturbance; operation of construction equipment; installation of towers, access roads, and other facilities; and presence of work forces. During operations and maintenance, impacts would occur from continued presence of project facilities and from maintenance activities. Impacts from eventual decommissioning of the upgraded line would be similar to those expected from the construction phase. Cumulative impacts from relevant reasonably foreseeable future actions will also be disclosed in the EIS.

The following resources could be impacted by the project and will be analyzed in the EIS. This is not necessarily a comprehensive list and other resources may be added as a result of scoping. These preliminary resources include geology and soils; general vegetation, riparian, and noxious and invasive species; general wildlife; threatened and endangered species; sensitive species; wetlands; air quality; minerals; paleontological resources; visual resources; National Historic Trails; surface water and groundwater quality and quantity; cultural resources; socioeconomics and environmental justice; public health and safety; land use and recreation; and special designations.

Anticipated Permits and Authorizations

Authorization of this proposal may require amendments to the applicable RMPs in effect for the Southern Nevada District Office to modify locations of some Visual Resource Management class locations involving the proposed ROW Project. Along with the ROW grant issued by the BLM, GridLiance anticipates needing the following authorizations and permits for the proposed project: construction authorization from the Bureau of Indian Affairs; clearance for survey and construction on Department of Defense lands; biological opinion and incidental take permit(s) from the U.S. Fish and Wildlife Service (USFWS) for Endangered Species Act compliance; USFWS Migratory Bird Treaty Act compliance; USFWS Bald and Golden Eagle Protection Act compliance; section 404 permit from the U.S. Army Corps of Engineers for Clean Water Act compliance; effect concurrence from the Nevada State Historic Preservation Office for National Historic Preservation Act compliance; No Hazard Declaration from the Federal Aviation Administration; Department of Homeland Security consultation regarding military radar; Utilities Environmental Protection Act Permit to Construct from the Public Utilities Commission of Nevada; Rare and Endangered Plant Permit from the Nevada State Division of Forestry; Desert Tortoise and Gila Monster Handling Permit from the Nevada Department of Wildlife; Native Cacti and Yucca Commercial Salvaging and Transportation Permit from the Nevada Division of Forestry; Incidental Take Permit from the Nevada Department of Wildlife; Clean Water Act, section 401 Compliance with the Nevada Division of Environmental Protection (NDEP) and Bureau of Water Quality Planning; Notification for Stormwater Management During Construction for the Clean Water Act, section 402 permit for stormwater discharge from NDEP; Groundwater Discharge Permit from NDEP; ROW Occupancy Permit from the Nevada Department of Transportation; Over Legal Size/Load Permit from the Nevada Department of Transportation; Uniform Permit (for transportation of hazardous materials) from the Nevada Department of Public Safety; NDEP Phase 1 Environmental Site Assessment; Clark County Dust Control Permit; Clark County Grading Permit; Clark County Building Permit; Nye County Dust Control Permit; Nye County Grading Permit; and other permits as necessary. Further details on these permitting requirements may be found in the relevant Plans of Development submitted to the BLM by GridLiance.

Schedule for the Decision-Making Process

The BLM will provide additional opportunities for public participation consistent with the NEPA and land use planning processes, including a 90-day comment period on the Draft RMPA/EIS and concurrent 30-day public protest period and 60-day Governor's consistency review on the Proposed RMPA. The Draft RMPA/EIS is anticipated to be available for public review fall 2023 and the Proposed RMPA/Final EIS is anticipated to be available for public protest of the Proposed RMPA spring 2024 with an Approved RMPA and ROD summer 2024.

Public Scoping Process

This notice of intent initiates the scoping period and public review of the planning criteria, which guide the development and analysis of the Draft RMPA/EIS.

The BLM will be holding two virtual scoping meetings (see DATES and ADDRESSES sections earlier). The date(s) and location(s) of any additional scoping meetings will be announced at least 15 days in advance through the BLM National NEPA Register, news release, and BLM social media pages.

The purpose of the public scoping process is to determine relevant issues that will influence the scope of the environmental analysis, including alternatives and mitigation measures, and to guide the process for developing the EIS. Federal, State, and local agencies and Tribes, along with stakeholders that may be interested or affected by the BLM's decision on this project, are invited to participate in the scoping process and, if eligible, may request or be requested by the BLM to participate as a cooperating agency. The BLM encourages written comments concerning the Project and RMP amendment, possible measures to minimize and/or avoid adverse environmental impacts, and any other information relevant to the Proposed Action.

The BLM also requests assistance with identifying potential alternatives to the Proposed Action. As alternatives should resolve an issue with the Proposed Action, please indicate the purpose of the suggested alternative. In addition, the BLM requests the identification of potential issues that should be analyzed. Issues should be a result of the Proposed Action or alternatives; therefore, please identify the activity along with the potential issues.

Lead and Cooperating Agencies

The BLM Southern Nevada District Office is the lead agency for this EIS and RMPA. The BLM has initially invited 31 Agencies and 17 Indian Tribal Nations to be cooperating agencies to participate in the environmental analysis of the project. Additional agencies and organizations may be identified as potential cooperating agencies to participate in the environmental analysis of the project.

Responsible Official

The Nevada State Director is the deciding official for this planning effort.

Nature of Decision To Be Made

The nature of the decision to be made will be the Nevada State Director's selection of land use planning decisions for managing BLM-administered lands under the principles of multiple use and sustained yield in a manner that best addresses the purpose and need.

The BLM will decide whether to grant, grant with conditions, or deny the applications for right-of-way amendments associated with the project. The BLM will also make the decision whether or not to approve any RMP amendment. In the ROD, the BLM will clearly distinguish the RMP amendment decision from the right-of-way grant decision concerning the selected alternative for the project.

Interdisciplinary Team

The BLM will use an interdisciplinary approach to develop the plan amendment in order to consider the variety of resource issues and concerns identified. Specialists with expertise in the following disciplines will be involved in this planning effort: geology and soils, vegetation and noxious and invasive species, wildlife, hydrology, air quality, minerals, paleontology, visual resources, cultural resources, socioeconomics, public health and safety, land use and recreation, and special designations, among others deemed necessary based on the results of the scoping process.

Additional Information

The BLM will identify, analyze, and consider mitigation to address the reasonably foreseeable impacts to resources from the proposed plan amendment and all analyzed reasonable alternatives and, in accordance with 40 CFR 1502.14(e), include appropriate mitigation measures not already included in the proposed plan amendment or alternatives. Mitigation may include avoidance, minimization, rectification, reduction or elimination over time, and compensation, and may be considered at multiple scales, including the landscape scale.

The BLM will utilize and coordinate the NEPA and land use planning processes for this planning effort to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed plan amendment will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

(Authority: 40 CFR 1501.7 and 43 CFR 1610.2)

Jon K. Raby,
State Director.

[FR Doc. 2023-17060 Filed 8-8-23; 8:45 am]

BILLING CODE 4331-21-P